DEPARTMENT OF DEFENSE

Office of the Secretary

[Transmittal Nos. 13-40]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittal 13-40 with attached transmittal, policy justification, and Sensitivity of Technology.

Dated: July 2, 2013.
Aaron Siegel,
Alternate OSD Federal Register Liaison Officer, Department of Defense.

BILLING CODE 5001-06-P

BILLING CODE 5001-06-C

Transmittal No. 13-40

Notice of Proposed Issuance of Letter of Offer Pursuant to Section 36(b)(1) of the Arms Export Control Act, as amended

(i) Prospective Purchaser: France

(ii) Total Estimated Value:

Major Defense Equipment* | $ .765 billion
Other | $ .735 billion
Total | $1.500 billion
* As defined in Section 47(6) of the Arms Export Control Act.

(iii) Description and Quantity or Quantities of Articles or Services under Consideration for Purchase:

16 MQ-9 Reaper Remotely Piloted Aircraft

8 Mobile Ground Control Stations

48 Honeywell TPE331-10T Turboprop Engines (16 installed and 32 spares)

24 Satellite Earth Terminal Substations

40 Ku Band Link-Airborne Communication Systems

40 General Atomics Lynx (exportable) Synthetic Aperture Radar/Ground Moving Target Indicator (SAR/GMTI) Systems

40 AN/DAS-1 Multi-Spectral Targeting Systems (MTS)-B

40 Ground Data Terminals

40 ARC-210 Radio Systems

40 Embedded Global Positioning System/Inertial Navigation Systems

48 AN/APX-119 and KIV-119 Identify Friend or Foe (IFF) Systems

Also provided are spare and repair parts, communication, test, and support equipment, publications and technical documentation, airworthiness and maintenance support, site surveys and beddown planning, personnel training and training equipment, operational flight test, U.S. Government and contractor technical and logistics personnel services, and other related elements of logistics support.

(iv) Military Department: Air Force (STE)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 27 June 2013

POLICY JUSTIFICATION

France—MQ-9 Reapers

The Government of France has requested a possible sale of:

16 MQ-9 Reaper Remotely Piloted Aircraft

8 Mobile Ground Control Stations (GCS)

48 Honeywell TPE331-10T Turboprop Engines (16 installed and 32 spares)

24 Satellite Earth Terminal Substations

40 Ku Band Link-Airborne Communication Systems

40 General Atomics Lynx (exportable) Synthetic Aperture Radar/Ground Moving Target Indicator (SAR/GMTI) Systems

40 AN/DAS-1 Multi-Spectral Targeting Systems (MTS)-B

40 Ground Data Terminals

40 ARC-210 Radio Systems

40 Embedded Global Positioning System/Inertial Navigation Systems

48 AN/APX-119 and KIV-119 Identify Friend or Foe (IFF) Systems

Also provided are spare and repair parts, communication, test, and support equipment, publications and technical documentation, airworthiness and maintenance support, site surveys and bed down planning, personnel training and training equipment, operational flight test, U.S. Government and contractor technical and logistics personnel services, and other related elements of logistics support. The estimated cost is $1.5 billion.

France is one of the major political and economic powers in Europe and the North Atlantic Treaty Organization (NATO) and an ally of the United States in the pursuit of peace and stability. It is vital to the U.S. national interest to assist France to develop and maintain a strong and ready self-defense capability. This potential sale will enhance the intelligence, surveillance, and reconnaissance (ISR) capability of the French military in support of national, NATO, United Nation-mandated, and other coalition operations. Commonality of ISR capabilities will greatly increase interoperability between the U.S. and French military and peacekeeping forces.

France requests these capabilities to provide for the defense of its deployed troops, regional security, and interoperability with the U.S. The proposed sale will improve France's capability to meet current and future threats by providing improved ISR coverage that promotes increased battlefield situational awareness, anticipates enemy intent, augments combat search and rescue, and provides ground troop support. France, which already has remotely piloted aircraft in its inventory, will have no difficulty absorbing this additional capability.

The proposed sale of this equipment and support will not alter the basic military balance in the region.

The principal contractor will be General Atomics Aeronautical Systems, Inc. in San Diego, California. There are no known offset agreements proposed in connection with this potential sale.

Implementation of this proposed sale will require multiple trips to France and deployed location for U.S. contractor representatives to provide initial launch, recovery, and maintenance support.

There will be no adverse impact on U.S. defense readiness as a result of this proposed sale.

Transmittal No. 13-40

Notice of Proposed Issuance of Letter of Offer

Pursuant to Section 36(b)(1) of the Arms Export Control Act

Annex

Item No. vii

(vii) Sensitivity of Technology:

1. The MQ-9 Reaper is a long-endurance, high-altitude, Remotely Piloted Aircraft that can be used for surveillance, military reconnaissance, and targeting missions. Real-time missions are flown under the control of a pilot in a Ground Control Station (GCS). A data link is maintained that uplinks control commands and downlinks video with telemetry data. The data link can be a C-Band Line-of-Sight (LOS) communication or Ku-Band Over-the-Horizon Satellite Communication (SATCOM). Payload imagery and data are downlinked to a GCS. Pilots can change mission parameters as often as required. The aircraft can also be handed off to other strategically placed ground- or sea-based GCS. The MQ-9 air vehicle is a Missile Technology Control Regime (MTCR) Category 1 system, designed to carry 800 pounds of internal payload with maximum fuel and 3000 pounds of external payload. It can carry multiple mission payloads aloft with a range of 1800km. The MQ-9 will be configured for the following payloads: Electro-Optical/Infrared (EO/IR), Synthetic Aperture Radar (SAR), and laser designators. The MQ-9 systems will include the following components:

a. The GCS can be either fixed or mobile. The fixed GCS is enclosed in a customer-specified shelter. It incorporates workstations that allow operators to control and monitor the aircraft, as well as record and exploit downlinked payload data. The mobile GCS allows operators to perform the same functions and is contained on a mobile trailer. Workstations in either GCS can be tailored to meet customer requirements. The GCS, technical data, and documents are Unclassified.

b. The AN/DPY-1 Block 30 and AN/APY-8 Block 20 Lynx IIe Synthetic Aperture Radar and Ground Moving Target Indicator (SAR/GMTI) system provides all-weather surveillance, tracking and targeting for military and commercial customers from manned and unmanned vehicles. The AN/DPY-1 3 meter resolution can image up to a 10-km wide swath for wide-area surveillance. The Lynx IIe-9 (exportable) SAR/GMTI radar system and technical data/documents are Unclassified.

c. The Raytheon AN/DAS-1 Multi-Spectral Targeting System (MTS-B) is a multi-use infrared (IR), electro-optical (EO), and laser detecting ranging-tracking set, developed and produced for use by the U. S. Air Force on the MQ-9 Reaper. This advanced EO and IR system provides long-range surveillance, high altitude, target acquisition, tracking, range finding, and laser designation all tri-service and NATO laser-guided munitions.

d. The Raytheon AN/AAS-52 Multi-Spectral Targeting System (MTS-A) is a multi-use infrared (IR), electro-optical (EO), and laser detecting ranging-tracking set, developed and produced for use by the U. S. Air Force on the MQ-1 Predator. This advanced EO and IR system provides long-range surveillance, high altitude, target acquisition, tracking, range finding, and laser designation for all tri-service and NATO laser-guided munitions.

e. The MQ-9s systems offered to France are not capable of carrying external payloads and armament.

2. The MQ-9 Reaper Remotely Piloted Aircraft is Unclassified. The highest level of classified information required for training, operation, and maintenance is Secret.

3. If a technologically advanced adversary were to obtain knowledge of the specific hardware or software in this proposed sale, the information could be used to develop countermeasures which might reduce weapon system effectiveness or be used in the development of a system with similar or advanced capabilities.

[FR Doc. 2013-16315 Filed 7-8-13; 8:45 am]

BILLING CODE 5001-06-P